DEPARTMENT OF THE INTERIOR

Fish and Wildlife Service

Availability of an Environmental Assessment and Receipt of an Application for an Incidental Take Permit for Expansion of a Storm Water Retention Facility in Martin County, FL

AGENCY: Fish and Wildlife Service, Interior.

ACTION: Notice.

SUMMARY: Martin County Board of County Commissioners (Applicant) requests an incidental take permit (ITP) for a three-year term pursuant to section 10(a)(1)(B) of the Endangered Species Act of 1973 (U.S.C. 1531 et seq.), as amended (Act). The Applicant anticipates impacts to 13.5 acres of habitat occupied by the threatened Florida scrub-jay (Aphelocoma coerulescens) (scrub-jay) incidental to the clearing of land associated with the expansion of a storm water retention facility (Project). The proposed construction would occur in sections 23 and 24, Township 40 South, Range 42 East, Martin County, Florida. A description of the mitigation and minimization measures outlined in the Applicant's Habitat Conservation Plan (HCP) to address the effects of the Project to the protected species is described further in the SUPPLEMENTARY INFORMATION section below.

The Service also announces the availability of an environmental assessment (EA) and HCP for the incidental take application. Copies of the EA and/or HCP may be obtained by making a request to the Regional Office (see ADDRESSES). Requests must be in writing to be processed. This notice also advises the public that the Service has made a preliminary determination that issuing the ITP is not a major Federal action significantly affecting the quality of the human environment within the meaning of Section 102(2)(C) of the National Environmental Policy Act of 1969 (NEPA), as amended. The Finding of No Significant Impact (FONSI) is based on information contained in the EA and HCP. The final determination will be made no sooner than 60 days from the date of this notice. This notice is provided pursuant to Section 10 of the Act and NEPA regulations (40 CFR 1506.6).

If you wish to comment, you may submit comments by any one of several methods. You may mail comments to the Service's Regional Office (see ADDRESSES). You may also comment via the Internet to david_dell@fws.gov. Please submit comments over the internet as an ASCII file avoiding the use of special characters and any form of encryption. Please also include your name and return address in your Internet message. If you do not receive a confirmation from the Service that we have received your Internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the permit application, supporting documentation, EA and HCP should be sent to the Service's Regional Office (see ADDRESSES) and should be received on or before January 20, 2004.

ADDRESSES: Persons wishing to review the application, supporting documentation, EA, and HCP, may obtain a copy by writing the Service's Southeast Regional Office, Atlanta, Georgia. Documents will also be available for public inspection by appointment during normal business hours at the Regional Office, 1875 Century Boulevard, Suite 200, Atlanta, Georgia 30345 (Attn: Endangered Species Permits), or South Florida Ecological Services Office, U.S. Fish and Wildlife Service, 1339 20th Street, Vero Beach, Florida 32960-3559. Written data or comments concerning the application, supporting documentation, EA, or HCP should be submitted to the Regional Office. Requests for the documentation must be in writing to be processed. Comments must be submitted in writing to be adequately considered in the Service's decision-making process. Please reference permit number TE067104-0 in such comments, or in requests of the documents discussed herein.

FOR FURTHER INFORMATION CONTACT: Mr. David Dell, Regional Coordinator, (see ADDRESSES above), telephone: 404/679-7313, facsimile: 404/679-7081; or Ms. Sharon Tyson, Fish and Wildlife Biologist, South Florida Ecological Services Office (see ADDRESSES above), telephone: 772/562-3909, extension 324.

SUPPLEMENTARY INFORMATION: The Florida scrub-jay is geographically isolated from other subspecies of scrub-jays found in Mexico and the Western United States. The scrub-jay is found exclusively in peninsular Florida and is restricted to xeric uplands (predominately in oak dominated scrub). Urban and agricultural development have resulted in habitat loss and fragmentation which has adversely affected the distribution and numbers of scrub-jays. The total estimated population is between 7,000 and 11,000 individuals.

The decline in the number and distribution of scrub-jays in southeastern Florida has been greater than in most of regions of the State. Southeastern Florida has experienced tremendous urban growth in the past 50 years and much of the commercial and residential development has occurred on the dry soils or the Atlantic coastal ridge which historically supported scrub-jay habitat. Based on existing soils data, much of the historic and current scrub-jay habitat of coastal east Florida occurs along a narrow stretch of historic sand dunes that are situated on a north-south axis from Dade to Flagler County. Much of this area of Florida was settled early because few wetlands restricted urban and agricultural development. Due to the effects of urban and agricultural development over the past 100 years, much of the remaining scrub-jay habitat is now relatively small and isolated. What remains is largely degraded due to the exclusion of fire which is needed to maintain xeric uplands in conditions suitable for scrub-jays.

Scrub-jays using the Project site and surrounding area are considered part of a larger complex of scrub-jays that occupy xeric uplands of southeastern coastal Florida. This complex of scrub-jay families ranges from about east-central Martin County south to northeastern Palm Beach County. The majority of scrub-jays within this complex are found in Jonathan Dickinson State Park (JDSP). The Project is located on the southern boundary of JDSP. The continued survival of scrub-jays in this area is dependent on the maintenance of suitable habitat and the restoration of unsuitable habitat in northeastern Palm Beach and southeastern Martin counties.

JDSP monitors the scrub-jay population within the Park on a regular basis, but the Project site is not included in the survey area. Therefore, long-term data on use of the Project site by scrub-jays is not available. However, during the planning phase of the Project, one comprehensive scrub-jay survey and two one-day surveys were conducted to determine the extent of scrub-jay use of the Project site. Based on the results of these surveys, it was estimated that of the 13.5 acres to be impacted by the proposed Project, about 9.0 acres of occupied scrub-jay habitat will be destroyed. Land clearing in preparation for excavation will remove habitat and result in death of, or injury to, scrub-jays, incidental to the carrying out of these otherwise lawful activities. Habitat alteration associated with the proposed excavation will reduce the availability of feeding, nesting, and sheltering habitat for scrub-jays.

The Applicant proposes several actions to minimize and mitigate unavoidable impacts to scrub-jays. Minimization measures include: (1) A 31 percent decrease in the Project footprint from the originally proposed design; and (2) siting the Project footprint to avoid the most ecologically sensitive areas within the planning area, thereby avoiding impacts to a federally listed plant and focusing impacts to lower quality scrub-jay habitat. Mitigation measures include: (1) Abandonment of about 29.2 acres of unopened road right-of-way (ROW) within the Hyland Terrace subdivision plat that is now largely encompassed within JDSP, (2) transfer of fee title of about 3.3 acres of private land in the Hyland Terrace subdivision to JDSP, (3) installation of 12,941 linear feet of fencing along the southern boundary of portions of JDSP to preclude off-road vehicle use and trash dumping, and (4) restoration of about 4.3 acres of occupied scrub-jay habitat within the Project boundary.

While not proposed as mitigation, the Applicant's minimization and mitigation measures will lead to a consolidation of ownership on the southern boundary of JDSP and will likely lead to more effective land management in this area. Due to liability issues related to private inholdings, JDSP was previously unable to implement planned prescribed fire in a 183-acre management block that included the Project site and an adjacent platted, but mostly undeveloped subdivision. Without periodic fire, this management block has become increasingly unsuitable for scrub-jays. With boundary consolidation, JDSP will be able to implement short and long-term management strategies in the 183-acre management block. Habitat restoration activities by JDSP in this area are expected to result in the enhancement of scrub-jay habitat, and possibly an expansion of suitable habitat for this species.

The EA considers the environmental consequences of one action alternative which would require issuance of an ITP and two alternatives that would not require issuance of an ITP, including the no action alternative. Both alternatives not requiring issuance of an ITP will ultimately result in loss of scrub-jay habitat within the Project site due to habitat degradation resulting from lack of management. The no action alternative (i.e., the Service would not issue an ITP) may also expose the Applicant under Section 9 of the Act, if they proceed with the Project as designed. The preferred alternative would affect about 13.5 acres of occupied scrub-jay habitat while protecting and enhancing about 36.8 acres of scrub habitat that may be subject to urban development in the future.

The proposed action alternative is issuance of the ITP for a three-year term according to the Plan as submitted and described above. Under the proposed alternative, the effect of the proposed minimization and mitigation measures will be the protection of about 36.8 acres of scrub-jay habitat adjacent to and within the Project. The mitigation parcels currently provide habitat for scrub-jay nesting, foraging, and sheltering. Conveyance of fee title of mitigation lands will result in a consolidated southern boundary and removal of inholdings within JDSP which should result in implementation of more effective land management actions. With management, existing conditions within JDSP are expected to improve over the long-term for scrub-jays in the vicinity of the Project site.

As stated above, the Service has made a preliminary determination that the issuance of the ITP is not a major Federal action significantly affecting the quality of the human environment within the meaning of section 102(2)(C) of NEPA. This preliminary information may be revised due to public comment received in response to this notice and is based on information contained in the EA and Plan.

The Service will also evaluate whether the issuance of a section 10(a)(1)(B) ITP complies with section 7 of the Act by conducting an intra-Service section 7 consultation. The results of the biological opinion, in combination with the above findings, will be used in the final analysis to determine whether or not to issue the ITP.

Dated: November 3, 2003.
Sam D. Hamilton,
Regional Director.

[FR Doc. 03-29080 Filed 11-20-03; 8:45 am]

BILLING CODE 4310-55-P